SMALL BUSINESS ADMINISTRATION

Meeting of the Advisory Committee on Veterans Business Affairs (ACVBA)

AGENCY: U.S. Small Business Administration (SBA).

ACTION: Notice of open Federal Advisory Committee meeting.

SUMMARY: The SBA is issuing this notice to announce the location, date, time and agenda for the next meeting of the Advisory Committee on Veterans Business Affairs (ACVBA). The meeting is open to the public. Due to renovations at SBA Headquarters, the meeting will be held at the American Legion Headquarters in Washington, DC.

DATES: Thursday, December 5, 2019, from 9:00 a.m. to 4:00 p.m. EST.

ADDRESSES: The meeting will be held at The American Legion, 1608 K St. NW, Large Conference Room, Washington, DC 20006 and via teleconference and webinar.

FOR FURTHER INFORMATION CONTACT: The meeting is open to the public; however advance notice of attendance is requested. To RSVP and confirm attendance, the general public should email veteransbusiness@sba.gov with subject line—“RSVP for December 5, 2019 ACVBA Public Meeting.” Anyone wishing to make comments to the Advisory Committee on Veterans Business Affairs (ACVBA)must contact SBA's Office of Veterans Business Development (OVBD) no later than November 26, 2019 via email veteransbusiness@sba.gov, or Timothy Green, Deputy Associate Administrator, OVBD at (202) 205-6773. Comments for the record will be limited to five minutes to accommodate as many participants as possible.

Special accommodation requests should also be directed to OVBD at (202) 205-6773 or veteransbusiness@sba.gov. For more information on veteran owned small business programs, please visit www.sba.gov/ovbd.

Participants can join the meeting via teleconference: Join Zoom Meeting https://legion.zoom.us/j/190076622.

Meeting ID: 190 076 622

+19292056099,190076622# US (New York)

+16699006833,190076622# US (San Jose)

Dial by your location

+1 929 205 6099 US (New York)

+1 669 900 6833 US (San Jose)

877 853 5257 US Toll-free

888 475 4499 US Toll-free

Find your local number: https://zoom.us/u/abmxT2ohhz. To receive copies of meeting documents email your request including the meeting title and date, to veteransbusiness@sba.gov. Those attending the meeting are encouraged to arrive early to allow for security clearance into the building.

For security purposes attendees are asked to:

1. RSVP by sending an email to veteransbusiness@sba.gov by November 30, 2019.

2. Know the name of the event being attended: The meeting event is the Advisory Committee on Veterans Business Affairs (ACVBA)

SUPPLEMENTARY INFORMATION: Pursuant to section 10(a)(2) of the Federal Advisory Committee Act (5 U.S.C., Appendix 2), SBA announces the meeting of the Advisory Committee on Veterans Business Affairs. The ACVBA is established pursuant to 15 U.S.C. 657(b) note and serves as an independent source of advice and policy. The purpose of this meeting is to discuss efforts that support veteran-owned small businesses, updates on past and current events, and the ACVBA's objectives for fiscal year 2020.

Dated: November 19, 2019.
Nicole Nelson,
Committee Management Officer (Acting).

[FR Doc. 2019-25488 Filed 11-22-19; 8:45 am]

BILLING CODE P